DEPARTMENT OF THE INTERIOR

Bureau of Indian Affairs

[120 A2100DD/AAKC001030/A0A501010.999900]

Tule River Indian Tribe of the Tule River Reservation; Amended and Restated Liquor Ordinance

AGENCY: Bureau of Indian Affairs, Interior.

ACTION: Notice.

SUMMARY: This notice publishes the Tule River Indian Tribe of the Tule River Reservation's Amended and Restated Liquor Ordinance. The Liquor Ordinance regulates and controls the consumption, possession, manufacture, distribution, and sale of liquor within the Reservation.

DATES: This ordinance shall take effect on February 5, 2020.

FOR FURTHER INFORMATION CONTACT: Mr. Harley Long, Tribal Government Officer, Pacific Regional Office, Bureau of Indian Affairs, 2800 Cottage Way, Room W-2820 Sacramento, California 95825; telephone: (916) 978-6000, fax: (916) 978-6099.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor control ordinances for the purpose of regulating liquor transactions in Indian country. On April 29, 2019, the Tule River Indian Tribe of the Tule River Reservation duly adopted the Amended and Restated Liquor Ordinance. This Federal Register Notice comprehensively amends and supersedes the existing Tule River Indian Reservation Ordinance Legalizing the Introduction, Sale, or Possession of Intoxicants, which was published in the Federal Register on December 30, 1970 (35 FR 19798), and repeals all previous ordinances regulating liquor within the Reservation, including the ordinance published in the Federal Register on April 9, 1954 (19 FR 2065).

This notice is published in accordance with the authority delegated by the Secretary of the Interior to the Assistant Secretary—Indian Affairs. I certify that the Tule River Indian Tribe of the Tule River Reservation duly adopted these amendments to the Tribe's Liquor Ordinance on April 29, 2019.

Dated: December 17, 2019.
Tara Sweeney,
Assistant Secretary—Indian Affairs.

The Tule River Indian Tribe of the Tule River Reservation's Amended and Restated Liquor Ordinance shall read as follows:

Ordinance No. 2019—

Amended and Restated Liquor Ordinance

Table of Contents

I. Title

II. Authority

III. Scope

IV. Purpose

V. Findings

VI. Definitions

VII. Powers of Enforcement

VIII. Sales of Liquor

IX. Licensing

X. Manufacture and Distribution

XI. Prohibitions and Violations

XII. Enforcement and Penalties

XIII. Taxation

XIV. Profits

XV. Severability and Miscellaneous

I. Title

This ordinance shall be known as the Amended and Restated Liquor Ordinance. The short title shall be “Liquor Ordinance”.

II. Authority

This Liquor Ordinance is enacted pursuant to the Act of August 15, 1953 (Pub. L. 83-277, 67 Stat. 588, 18 U.S.C. 1161) and Article VI, Section 1(a) of the Constitution of the Tule River Indian Tribe (the “Tribe”), in conformity with the laws of the State of California.

III. Scope

A. This Liquor Ordinance shall apply to the full extent of the jurisdiction of the Tribe.

B. Compliance with this Liquor Ordinance is hereby made a condition of the use of any land or premises within the Reservation.

C. Any person who resides, conducts business, engages in a business transaction, receives benefits from the Tribe, acts under Tribal authority, or enters the Reservation shall be deemed to have consented to the following:

1. To be bound by the terms of this Liquor Ordinance;

2. To the exclusive jurisdiction of the Tribal Court and Tribal Court of Appeals for legal action arising under this Liquor Ordinance; and

3. To service of summons and process, and search and seizure, in conjunction with legal actions arising pursuant to this Liquor Ordinance.

D. No portion of this Liquor Ordinance shall be construed as contrary to Federal law or applicable California laws.

IV. Purpose

The purpose of this Liquor Ordinance is to regulate and control the consumption, possession, manufacture, distribution and sale of liquor within the Reservation (as defined herein), and to permit the sale of liquor by Tribal Retailers, Existing Retailers and Retailers (each as defined herein) to promote the economic development of the Tribe. The enactment of this Liquor Ordinance will increase the ability of the Tribal government to control liquor sales and consumption within the Reservation and will provide an important source of revenue for the continued operation and strengthening of the Tribal government and the delivery of Tribal government services.

This Liquor Ordinance amends and restates the previous ordinance regulating liquor within the Reservation adopted November 7, 1970 and published in the Federal Register on December 30, 1970 at 35 FR 19798, and repeals all previous ordinances regulating liquor within the Reservation, including the ordinance published in the Federal Register on April 9, 1954 at 19 FR 2065.

V. Findings

The Tribal Council finds as follows:

A. The consumption, possession, manufacture, distribution and sale of liquor in Indian Country are matters of particular concern to the Tribe and the United States. Consistent with the laws of the United States, the control of liquor within the Reservation remains subject to the legislative enactments of the Tribe in the exercise of its governmental powers over the Reservation.

B. Federal law permits the sale of liquor within the Reservation; provided the sale and possession of liquor is consistent with the laws of the State of California and pursuant to an Ordinance duly adopted by the Tribe (18 U.S.C. 1161).

C. The Tribal Council, as the governing body of the Tribe under Article III, Section 1 of the Constitution of the Tribe, desires to adopt this Liquor Ordinance to authorize and regulate the consumption, possession, manufacture, distribution and sale of liquor within the Reservation, as provided herein.

VI. Definitions

As used in this Liquor Ordinance, the following words shall have the following meanings unless the context clearly requires otherwise.

A. “Alcohol” means that substance known as ethyl alcohol, hydrated oxide of ethyl, or spirits of wine which is commonly produced by the fermentation or distillation of grain, starch, molasses, or sugar, or other substances including all dilutions of this substance.

B. “Beer” means any alcoholic beverage obtained by the fermentation of any infusion or decoction of barley, malt, hops, or any other similar product, or any combination thereof in water, and includes ale, porter, brown, stout, lager beer, small beer, and strong beer.

C. “Existing Retailer” means a person who, prior to the effective date of this Liquor Ordinance: (i) Is operating and continues to operate a retail business located within the Reservation; and (ii) has a license or permit (as applicable) issued by the California Department of Alcoholic Beverage Control for such Liquor sales.

D. “Legal Age” means the age set by the State of California at which it is legal to purchase, consume, or possess Liquor. At the time of the enactment of this Liquor Ordinance, the State of California sets the Legal Age at twenty-one (21). At such time, if any, the State of California sets the Legal Age below age twenty-one (21), the Tribal Council, in its sole discretion shall promulgate regulations to set the Legal Age within the Reservation; provided such Legal Age is at or above the age set by the State of California.

E. “License” means a license issued pursuant to this Liquor Ordinance for the Sale of Liquor.

F. “Licensed Premises” means the establishment in which Liquor is permitted to be retailed and consumed.

G. “Liquor” means the four varieties of liquor herein defined (Alcohol, Spirits, Wine and Beer), and all fermented spirituous, vinous, or malt liquor or combination thereof, and mixed liquor, or otherwise intoxicating; and every liquid or solid or semisolid or other substance, patented or not, containing Alcohol, Spirits, Wine or Beer. All drinks or drinkable liquids and all preparations or mixtures capable of human consumption and any liquid, semisolid, solid, or other substances, which contain more than one percent (1%) of Alcohol by weight shall be conclusively deemed to be intoxicating.

H. “Person” means any natural person or entity, including but not limited to corporations, partnerships and trusts.

I. “Reservation” means all lands under the jurisdiction and control of the Tule River Indian Tribe and its Tribal Council.

J. “Retailer” means a person who is authorized by the Tribe to sell Liquor at retail from a business located within the Reservation after the Effective Date of this Liquor Ordinance.

K. “Sale” and “Sell” means any exchange or barter; and also includes the selling, supplying or distributing by any means whatsoever, by any person to any person.

L. “Spirits” means any beverage which contains Alcohol obtained by distillation, including Wines exceeding seventeen percent (17%) of Alcohol by weight.

M. “Tribal Court of Appeals” means the Tribal Court of Appeals or any other entity explicitly designated by the Tribe to serve in that capacity for purposes of this Liquor Ordinance and as permitted under the Compact.

N. “Tribal Court” means the judicial branch of the Tribe and such other divisions as the Tribal Council may establish by provision.

O. “Tribal Liquor Tax” means the tax imposed as defined in Section XIII.A.

P. “Tribal Retailer” means a retailer wholly-owned by the Tribe and located within the Reservation who maintains a license or permit (as applicable) issued by the California Department of Alcoholic Beverage Control.

Q. “Tribal” and “Tribe” means the Tule River Indian Tribe of California, a federally recognized sovereign nation, including all incorporated and/or unincorporated Tribal governmental entities (including, without limitation, the Tribal Council, Gaming Commission, any economic development entities) and their officials, officers, managers, agents and employees.

R. “Tule River Tribal Council” or “Tribal Council” means the governing body of the Tribe.

S. “Wine” means any alcoholic beverage obtained by fermentation of fruits (grapes, berries, apples, etc.) or other agricultural product containing sugar to which any saccharine substances may have been added before, during or after fermentation, and containing not more than seventeen percent (17%) of Alcohol by weight, including sweet Wines fortified with wine spirits such as port, sherry, muscatel, and angelica, not exceeding seventeen percent (17%) of Alcohol by weight and sake (known as Japanese rice wine).

VII. Powers of Enforcement

A. Powers. The Tribal Council, in furtherance of this Liquor Ordinance, shall have the following powers and duties:

1. To publish and enforce the rules and regulations governing the consumption, possession, manufacture, distribution and Sale of Liquor within the Reservation;

2. To employ managers, accountants, security personnel, inspectors, and such other persons as shall be reasonably necessary to allow the Tribal Council to perform its functions;

3. To authorize a representative to enforce this Liquor Ordinance;

4. To issue Licenses permitting the consumption, possession, manufacture, distribution and Sale of Liquor within the Reservation;

5. To revoke such Licenses as provided herein;

6. To issue Licenses permitting the Sale of Liquor within the Reservation;

7. To hold hearings on violations of this Liquor Ordinance (including the issuance or revocation of Licenses hereunder);

8. To bring suit in the appropriate court to enforce this Liquor Ordinance as necessary;

9. To determine and seek damages for violation of this Liquor Ordinance; and

10. To collect taxes and fees levied or set by the Tribal Council, and to keep accurate records, books and accounts.

B. Limitation on Powers. In the exercise of its powers and duties under this Liquor Ordinance, the Tribal Council and its individual members shall not accept any gratuity, compensation or any item of value from any Liquor wholesaler, retailer, or distributor or from any licensee.

C. Inspection Rights. The Tribal Council, acting through its officials, agents, employees or other designated representatives may, at all reasonable times, for the purposes of determining compliance with this Liquor Ordinance inspect the Licensed Premises.

VIII. Sales of Liquor

A. Licenses Required. Only Tribal Retailers, Existing Retailers, and Retailers licensed by the Tribe, may Sell Liquor within the Reservation. For purposes of clarity, a Tribal Retailer and Existing Retailer only require the applicable license or permit issued by the California Department of Alcoholic Beverage Control to Sell Liquor within the Reservation.

B. Compliance with California Law. All Sales of Liquor within the Reservation must comply with California law applicable to Sales of Liquor within the Reservation and must be in compliance with the conditions of the license or permit (as applicable) issued by the California Department of Alcoholic Beverage Control for such Sales of Liquor.

C. No Extensions of Credit. No credit shall be extended to any person, organization, or entity, for the Sale of Liquor. This provision does not prevent the use of major credit cards in the Sale of Liquor.

D. Sale for Personal Consumption. All Sales shall be for the personal use and consumption of the purchaser. Resale of Liquor purchased within the Reservation is prohibited. Any person who is not licensed pursuant to this Liquor Ordinance and purchases Liquor within the Reservation and Sells it, whether in the original container or not, shall be guilty of a violation of this Liquor Ordinance and shall be subjected to paying damages to the Tribe as set forth herein.

E. Acceptable Identification. Where there may be a question of a person's right to purchase Liquor by reason of his/her age, such person shall be required to present any one of the following issued cards of identification which shows his/her correct age and bears his/her signature and photograph:

1. Tribal identification card;

2. Driver's license of any state or identification card issued by any State Department of Motor Vehicles;

3. United States active duty military or veteran identification cards; or

4. Passport.

IX. Licensing

A. Applicable License Requirements

1. Tribal Retailers. Tribal Retailers must obtain a license or permit (as applicable) from the California Department of Alcoholic Beverage Control in order to Sell Liquor within the Reservation, but shall not be required to obtain a License.

2. Existing Retailers. Existing Retailers must obtain a license or permit (as applicable) from the California Department of Alcoholic Beverage Control and an additional License from the Tribe in order to Sell Liquor within the Reservation. In order to obtain a License from the Tribe, the Existing Retailer must present their license or permit (as applicable) from the California Department of Alcoholic Beverage Control to the Tribal Council, certify that he/she is continually operating such business in compliance with the conditions of such license or permit, and agree to comply with the requirements of this Liquor Ordinance and the conditions, if any, imposed on their License by the Tribal Council.

3. Retailers. In addition to a license or permit (as applicable) issued by the California Department of Alcoholic Beverage Control, Retailers must obtain a License from the Tribe which shall be issued upon submittal of a sworn application filed with the Tribal Council containing a full and complete showing of the following:

a. Satisfactory proof that the applicant is or will be duly licensed by the State of California.

b. Satisfactory proof that the applicant is of good character and reputation among the people of the Reservation and that the applicant is financially responsible.

c. A description of the premises in which the Liquor is to be sold and proof that the applicant is the owner of such premises, or lessee of such premises, for the term of the License.

d. Agreement by the applicant to accept and abide by all conditions of the License.

e. Payment of a fee as prescribed by the Tribal Council.

f. Satisfactory proof that neither the applicant nor the applicant's spouse has ever been convicted of a felony.

g. Satisfactory proof that notice of the application has been posted in a prominent, noticeable place on the premises where Liquor is to be sold for at least thirty (30) days prior to consideration by the Tribal Council and has been published in the Tribal newsletter, email, or other print or online media directed to the Tribal community that may be affected by the License. The notice shall state the date, time, and place when the application shall be considered by the Tribal Council pursuant to Section B of this Article.

B. Hearing on Application for Tribal Liquor License. All applications for a License shall be considered by the Tribal Council in an open session at which the applicant, his/her attorney, and any person protesting the application shall have the right to be present, and to offer sworn oral or documentary evidence relevant to the application. After the hearing, the Tribal Council, by secret ballot, shall determine whether to grant or deny the application based on:

1. Whether the requirements of Section A of this Article have been met; and

2. Whether the Tribal Council, in its discretion, determines that granting the License is in the best interest of the Tribe.

In the event that the applicant is the immediate family of a Tribal Council member, such member shall not vote on the application or participate in the hearings as a Tribal Council member.

C. Special Events. Sales of Liquor at special events do not require a License, provided such Sales are conducted consistent with applicable California law (including obtaining a permit or authorization for such special event to the extent required) and do not exceed one (1) day.

D. Conditions of the Tribal License. Any License issued under this Liquor Ordinance shall be subject to such reasonable conditions as the Tribal Council shall impose, including, but not limited to the following:

1. The License shall be for a term not to exceed two (2) years and shall automatically renew upon the payment of annual fees, if any, established by the Tribal Council.

2. The Licensed Premises shall at all times be maintained in an orderly, clean, and neat manner.

3. The Licensed Premises shall be subject to patrol by the Tule River Department of Public Safety, and such other law enforcement officials as may be authorized under Federal, California, or Tribal law.

4. The Licensed Premises shall be open to inspection by duly authorized Tribal officials at all times during the regular business hours.

5. Subject to the provisions of Subsection D.6. of this Article, no Liquor shall be sold, served, disposed of, delivered, or given to any person, or consumed on the Licensed Premises except in conformity with the hours and days prescribed by the laws of the State of California, and in accordance with the hours fixed by the Tribal Council.

6. All acts and transactions under authority of a License shall be in conformity with the laws of the State of California, and shall be in accordance with this Liquor Ordinance and any conditions imposed on such License.

7. No person under the Legal Age permitted under the laws of the State of California shall be sold, served, delivered, given, or allowed to consume Liquor on the Licensed Premises.

8. There shall be no discrimination in the operations under the License by reason of race, age, disability, national origin, religion, or gender.

E. License Not a Property Right. Notwithstanding any other provision of this Liquor Ordinance, a License is a mere permit for a fixed duration of time. A License shall not be deemed a property right or vested right of any kind, nor shall the granting of a License give rise to a presumption of legal entitlement to the granting of such License for a subsequent time period.

F. Assignment or Transfer. No License issued under this Liquor Ordinance shall be assigned or transferred.

X. Manufacture and Distribution

The Tribal Council has the authority to adopt rules and regulations to authorize the manufacture and distribution of Liquor within the Reservation. Until such time as the Tribal Council adopts such rules and regulations, the manufacture and distribution of Liquor for Sale is strictly prohibited.

XI. Prohibitions and Violations

A. Sales or Possession With Intent to Sell Without a License. Any person who shall Sell or offer for Sale, distribute, manufacture, or transport in any manner, any Liquor in violation of this Liquor Ordinance, or who shall operate a business for the Sale of Liquor or shall have Liquor in his/her possession with intent to Sell or distribute without a License, shall be guilty of a violation of this Liquor Ordinance.

B. Purchases From Other Than Licensed Facilities. Any person within the boundaries of the Reservation who buys Liquor from any person other than at a properly Licensed Premises shall be guilty of a violation of this Liquor Ordinance.

C. Sales to Persons Under the Influence of Liquor. Any person who Sells Liquor to a person clearly under the influence of Liquor shall be guilty of a violation of this Liquor Ordinance.

D. Consuming Liquor in a Mode of Public or Private Transportation. Any person engaged wholly, or in part, in the business of carrying passengers for hire (including every agent, servant or employee) or such person who shall knowingly allow any person to drink Liquor in any mode of public or private transportation shall be guilty of a violation of this Liquor Ordinance. Any person who shall drink any Liquor in any mode of public or private transportation shall be guilty of a violation of this Liquor Ordinance.

E. Consumption or Possession of Liquor by Persons Under the Legal Age.

1. No person under the Legal Age shall purchase, possess or consume any Liquor within the Reservation. Any person violating this Subsection shall be guilty of a separate violation of this Liquor Ordinance for each and every drink so consumed.

2. Any person who shall Sell or provide Liquor to any person under the Legal Age shall be guilty of a violation of this Liquor Ordinance for each Sale or drink provided.

3. No person shall permit any other person under the Legal Age to consume Liquor on his/her premises or any premises under his/her control.

F. Transfer of Identification to Minor. Any person who provides, in any manner, a 21 years of age identification card (ID card) to a minor for the purpose of permitting such minor to obtain Liquor shall be guilty of an offense; provided, that corroborative testimony of a witness other than the minor shall be a requirement of finding a violation of this Liquor Ordinance.

G. Use of False or Altered Identification. Any person who attempts to purchase Liquor through the use of false or altered ID card, which falsely purports to show the individual to be of Legal Age shall be guilty of violating this Liquor Ordinance.

XII. Enforcement and Penalties

A. Enforcement. In enforcing this Liquor Ordinance, the Tribal Council, acting on behalf of the Tribe, may take the following actions:

1. Publish and enforce such rules and regulations as deemed necessary by the Tribal Council to govern the distribution, manufacture, Sale, consumption and possession of Liquor within the Tribe's jurisdiction, including establishing and imposing civil penalties.

2. Revoke any License approved by the Tribal Council under this Liquor Ordinance, following a determination by the Tribal Council that the holder of said License has violated any provision of this Liquor Ordinance or that the License is no longer in the best interest of the Tribe. The Retailer or Existing Retailer shall be provided notice and an opportunity to be heard in any such revocation action.

3. Bring suit in the Tribal Court, or any other court of competent jurisdiction, to enforce this Liquor Ordinance.

4. Hold such hearings as the Tribal Council deems necessary to administer and enforce this Liquor Ordinance.

5. Delegate to the Tribal Court such authority as may be necessary to enforce the civil penalties arising under this Liquor Ordinance. Except as may otherwise be provided by applicable Federal and state law, the Tribal Court shall have exclusive jurisdiction to enforce this Liquor Ordinance.

6. Take all such actions within the Tribal Council's authority under the laws and Constitution of the Tribe in the enforcement of this Liquor Ordinance.

B. Judicial Enforcement. The Tribal Court is hereby vested with exclusive jurisdiction to hear and determine all violations arising under this Liquor Ordinance, including the determination of any violation by any person of the provisions of this Liquor Ordinance and the imposition of any penalties arising from said violations.

C. Liquor Ordinance Violations. Unless otherwise provided for in a regulation adopted by the Tribal Council, any person guilty of a violation of this Liquor Ordinance shall be liable to pay the Tribe a penalty not to exceed $500 per violation as civil damages to defray the Tribe's cost of enforcement of this Liquor Ordinance. In addition to any penalties so imposed, the Tribal Council may, after a duly noticed hearing, suspend, cancel or revoke any License issued hereunder. The Tribal Council shall provide at least ten (10) days' notice of the hearing to the Retailer or Existing Retailer. The decision of the Tribal Council shall be final.

D. Declaratory and Injunctive Relief. In addition to all other remedies, whether in law or in equity, available to the Tribal Court under the Constitution and laws of the Tribe in the enforcement of this Liquor Ordinance, the Tribal Court may employ such declaratory and/or injunctive relief as may be necessary to determine the rights and liabilities arising under this Liquor Ordinance and to otherwise provide for enforcement of this Liquor Ordinance to the fullest extent possible under the Tribe's laws.

E. Possession of Liquor Contrary to This Liquor Ordinance. Possession of Liquor contrary to the terms of this Liquor Ordinance is considered to be contraband. Any Tribal agent, employee, or officer who is authorized by the Tribal Council to enforce this Section shall have the authority to, and shall seize, all contraband.

F. Disposition of Seized Contraband. Any contraband seized by an Officer shall be preserved in accordance with applicable law. Upon being found in violation of this Liquor Ordinance by the Tribal Council, the party shall forfeit all right, title and interest in the items seized which shall become the property of the Tribe.

XIII. Taxation

A. Imposition of Tribal Liquor Tax. The Tribal Council, in its sole discretion, may impose a tax upon the privilege of Selling Alcohol within the Reservation pursuant to a duly adopted resolution (“Tribal Liquor Tax”). The tax rate imposed under this Liquor Ordinance shall be established by the Tribal Council and shall be no less than two percent (2%) and not exceed ten percent (10%) of the purchase price of the Liquor. Such Tribal Liquor Tax shall be applied in addition to any other taxes imposed by the Tribe.

B. Taxes Due, Reporting and Audit Deadline. Payment of any Tribal Liquor Tax shall be due within thirty (30) days of the end of the calendar quarter for which taxes are due, or such other date set by the Tribal Council. Along with the payment of the taxes imposed herein, the Tribal Council may request an accounting of all income from the Sale or distribution of Liquor, as well as for the taxes collected. At its discretion, The Tribal Council may review or audit the books and records of any Existing Retailer or Retailer relating to the Sale of Liquor within the Reservation. Said review or audit may be done annually by the Tribe through its agents or employees whenever, in the opinion of the Tribal Council, such a review or audit is necessary to verify the accuracy of reports.

XIV. Profits

A. Disposition of Proceeds. The gross proceeds collected by the Tribal Council from all licensing fees and from the taxation of the Sales of Liquor within the Reservation shall be distributed as follows:

1. For the payment of all necessary personnel, administrative costs, and legal fees for the operation and its activities pursuant to this Liquor Ordinance.

2. The remainder shall be turned over to the account of the Tribe designated by the Tribal Council.

XV. Severability and Miscellaneous

A. Severability. If any provision or application of this Liquor Ordinance is determined by review to be invalid, such adjudication shall not be held to render ineffectual the remaining portions of this title or to render such provisions inapplicable to other persons or circumstances.

B. Prior Enactments. This Liquor Ordinance repeals and supersedes all previous liquor ordinances enacted by the Tribe.

C. Conformance with California Laws. All acts and transactions under this Liquor Ordinance shall be in conformity with the laws of the State of California.

D. Effective Date. This Liquor Ordinance shall be effective on such date as the Secretary of the Interior certifies this Liquor Ordinance and publishes the same in the Federal Register (the “Effective Date”).

E. Adoption and Amendment. This Liquor Ordinance shall be adopted and may be amended by a majority vote of the Tribal Council at a duly called meeting of the Tribal Council and subsequent review by the appropriate official of the Department of the Interior and publication in the Federal Register.

F. Sovereign Immunity. Nothing contained in this Liquor Ordinance shall be construed as a waiver of the sovereign immunity of the Tribe, nor does this Liquor Ordinance in any way limit, alter, restrict, or waive the Tribe's sovereign immunity from unconsented suit or action. Nothing in this Liquor Ordinance shall be construed to confer jurisdiction on a court or judicial body to hear disputes or causes of action arising from this Liquor Ordinance or its subject matter. The sovereign immunity of the Tribe is in no manner waived by this Liquor Ordinance or by any action of any Tribal employee or official acting pursuant to the Liquor Ordinance.

[FR Doc. 2019-28443 Filed 1-3-20; 8:45 am]

BILLING CODE 4337-15-P